DEPARTMENT OF DEFENSE

Office of the Secretary

[Transmittal No. 16-11]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Sarah A. Ragan or Heather N. Harwell, DSCA/LMO, (703) 604-1546/(703) 607-5339.

The following is a copy of a letter to the Speaker of the House of Representatives, Transmittal 16-11 with attached Policy Justification.

Dated: January 4, 2016.
Aaron Siegel,
Alternate OSD Federal Register Liaison Officer, Department of Defense.

BILLING CODE 5001-06-P

Transmittal No. 16-11

Notice of Proposed Issuance of Letter of Offer Pursuant to Section 36(b)(1) of the Arms Export Control Act, as amended

(i) Prospective Purchaser: Lithuania

(ii) Total Estimated Value:

Major Defense Equipment* | $45.2 million
Other | $9.8 million
Total | $55.0 million

(iii) Description and Quantity or Quantities of Articles or Services under Consideration for Purchase:

Major Defense Equipment (MDE): Two-hundred and twenty (220) Javelin Missiles, Ten (10) Javelin Fly-to-Buy Missiles, Seventy-four (74) Javelin Command Launch Units (CLU).

Also included are the following non-MDE items; U.S. Government technical assistance, above the line transportation cost, and other related elements of logistics and program support to include equipment purchased in prior related Foreign Military Sales cases. The estimated cost is $55 million.

(iv) Military Department: Army

(v) Prior Related Cases, if any: FMS Case: LH-B-UAN-$9.6M-JAN 02, LH-B-UAN, A06-$29.3M-SEP 14

(vi) Sales Commission, Fee, etc., Paid, Offered, or Agreed to be Paid: None

(vii) Sensitivity of Technology Contained in the Defense Article or Defense Services Proposed to be Sold: See Attached Annex.

(viii) Date Report Delivered to Congress: 18 DEC 2015

* as defined in Section 47(6) of the Arms Export Control Act.

POLICY JUSTIFICATION

Lithuania-Javelin Missile and Command Launch Units

Lithuania has requested a possible sale of two-hundred and twenty (220) Javelin Missiles, ten (10) Javelin Fly-to-Buy Missiles, seventy-four (74) Javelin Command Launch Units (CLU), U.S. Government technical assistance, above the line transportation cost, and other related elements of logistics and program support. The total estimated value of MDE is $45.2 million. The overall total estimated value is $55 million.

This proposed sale will contribute to the foreign policy and national security of the United States. The sale of Javelins will provide additional opportunities for bilateral engagements and greater interoperability with U.S. and allied forces. Neighboring NATO Allies would view this procurement as a positive step towards ensuring regional stability. The proposed sale directly supports U.S. national security interests by bolstering the Lithuanian military's ability to effectively defend its border and effectively coordinate regional border security with its Baltic neighbors.

The proposed sale of Javelins will provide Lithuania with increased capacity to meet its defensive needs. Supporting the Lithuanian Land Force's modernization also supports the fielding of forces better able to contribute to NATO operations in the future. Lithuania will have no difficulty absorbing this equipment into its armed forces.

The proposed sale of this equipment, services, and support will not alter the basic military balance in the region.

The prime contractors will be Raytheon/Lockheed Martin Javelin Joint Venture of Orlando, Florida, and Tucson, Arizona. There are no known offset agreements proposed in connection with this potential sale.

Implementation of this proposed sale will not require the assignment of any additional U.S. Government or contractor representatives to Lithuania.

There will be no adverse impact on U.S. defense readiness as a result of this proposed sale.

Transmittal No. 16-11

Notice of Proposed Issuance of Letter of Offer Pursuant to Section 36(b)(1) of the Arms Export Control Act, as amended

Annex

Item No. vii

(vii) Sensitivity of Technology:

1. The Javelin Weapon System is a medium-range, man-portable, shoulder-launched, fire-and-forget, anti-armor system. Javelin uses fire-and-forget technology which allows the gunner to fire and immediately relocate or take cover. Other features include top attack and direct fire modes, an advanced tandem warhead and imaging infrared seeker, target lock-on before launch, and soft launch from enclosures. The Javelin missile also has a minimum smoke motor thus decreasing its detection on the battlefield. The Javelin Training System consists of the following training devices: The missile simulation round, the basic skills trainer and the field tactical trainer, Javelin Weapon Effects Simulator (JAVWES), and tripod.

2. The Javelin Weapon System comprises two major tactical components, which include a reusable Command Launch Unit (CLU) and a round contained in a disposable launch tube assembly. The CLU incorporates an integrated day-night sight that provides a target engagement capability in adverse weather and countermeasure environments. The CLU may also be used in a stand-alone mode for battlefield surveillance and target detection. The CLU's thermal sight is a second generation Forward-Looking Infrared (FLIR) sensor operating in the 8-10 micron wavelength and has a 240 X 2 scanning array with a Dewar-coolant unit. To facilitate initial loading and subsequent updating of software, all on-board missile software is uploaded via the CLU after mating and prior to launch.

3. The Javelin Missile System hardware and the documentation are UNCLASSIFIED. The missile software which resides in the CLU is considered sensitive. The sensitivity is primarily in the software programs which instruct the system how to operate in the presence of countermeasures. Programs are contained in the system in the form of microprocessors with Read Only Memory (ROM) maps, which do not provide the software program itself. The overall hardware is considered sensitive in that the modulation frequency and infrared wavelengths could be used in countermeasure development.

4. If a technologically advanced adversary were to obtain knowledge of the specific hardware and software elements, the information could be used to develop countermeasures that might reduce weapon system effectiveness or be used in the development of a system with similar or advanced capabilities.

5. A determination has been made that the recipient country can provide the same degree of protection for the sensitive technology being released as the U.S. Government. This sale is necessary in furtherance of the U.S. foreign policy and national security objectives outlined in the Policy Justification. Moreover, the benefits to be derived from this sale, as outlined in the Policy Justification, outweigh the potential damage that could result if the sensitive technology were revealed to unauthorized persons.

6. All defense articles and services listed in this transmittal have been authorized for release and export to the Government of Lithuania.

[FR Doc. 2016-00034 Filed 1-6-16; 8:45 am]

BILLING CODE 5001-06-C